DEPARTMENT OF ENERGY

Federal Energy Regulatory Commission

[Docket No. RM07-10-002]

Transparency Provisions of Section 23 of the Natural Gas Act; Notice of Availability of Revised Form No. 552 for eFiling

August 31, 2010.

On August 17, 2010, the Office of Management and Budget approved a revised Form No. 552 under OMB Control Number 1902-0242. The Commission had modified Form No. 552 in Order 704-C on June 17, 2010 (131 FERC ¶ 61,246). Accordingly, today Commission staff has made available the revised Form No. 552, in a fillable format suitable for submission, on its Web site at http://www.ferc.gov/docs-filing/forms.asp#552.

Respondents should read the eFiling instructions, fill out the revised Form No. 552, and eFile their calendar year 2009 data to the Commission no later than October 1, 2010.

Kimberly D. Bose,
Secretary.

[FR Doc. 2010-22274 Filed 9-7-10; 8:45 am]

BILLING CODE 6717-01-P